DEPARTMENT OF THE INTERIOR

Bureau of Indian Affairs

Draft Environmental Impact Statement for the Proposed Seminole Tribe of Florida Fee-to-Trust, City of Coconut Creek, Broward County, FL

AGENCY: Bureau of Indian Affairs, Interior.

ACTION: Notice of availability.

SUMMARY: This notice advises the public that the Bureau of Indian Affairs (BIA) as lead agency, with the Seminole Tribe of Florida (Tribe), City of Coconut Creek (City), and Broward County serving as cooperating agencies, intends to file a Draft Environmental Impact Statement (DEIS) with the U.S. Environmental Protection Agency (EPA) for the Seminole Tribe of Florida Fee-to-Trust Project, City of Coconut Creek, Florida, Broward County, Florida. This notice announces that the DEIS is now available for public review and the date, time, and location of a public hearing to receive comments on the DEIS.

DATES: The DEIS will be available for public comment beginning August 31, 2012. Written comments on the DEIS must arrive by October 15, 2012. The public hearing will be held on Tuesday, October 9, 2012, starting at 6 p.m. and will run until the last public comment is received.

ADDRESSES: You may mail or hand-deliver written comments to Mr. Franklin Keel, Eastern Regional Director, Bureau of Indian Affairs, 545 Marriott Drive, Suite 700, Nashville, TN 37214. The public hearing will be held at the City of Coconut Creek Commission Chamber, 4800 West Copans Road, Coconut Creek, Florida, 33063.

FOR FURTHER INFORMATION CONTACT: Chester McGhee, Environmental Protection Specialist, Bureau of Indian Affairs, Eastern Region, 545 Marriott Drive, Suite 700, Nashville, TN 37214; fax (615) 564-6701; phone (615) 564-6832.

SUPPLEMENTARY INFORMATION: Public review of the DEIS is part of the administrative process for the evaluation of tribal application to the BIA for the Federal trust acquisition of approximately 45 acres in Coconut Creek, Broward County, Florida. The Tribe proposes to construct a hotel/resort on the trust property subsequent to the trust acquisition. A Notice of Intent (NOI) was published in the Sun-Sentinel on August 5, 6, and 7, 2010 and in the Federal Register on August 6, 2010 (75 FR 47616). The BIA held a public scoping meeting for the project on September 15, 2010, at the Coral Springs High School Auditorium, in Coral Springs, Florida. Pursuant to Council on Environmental Quality (CEQ) National Environmental Policy Act (NEPA) regulations (40 CFR 1506.10), the publication of this Notice of Availability in the Federal Register initiates a 45-day public comment period.

Background

The Tribe has requested that the Secretary of the Interior acquire approximately 45 acres of Tribal-owned land in Federal trust for the Tribe in the City of Coconut Creek, Florida. The project site is located northeast of the intersection of U.S. Highway 7/US-441 and Sample Road. The property surrounds on three sides the existing Seminole Coconut Creek Trust Property, currently housing the Coconut Creek Casino. The Proposed Action consists of transferring the 45± acres of property and the subsequent development of a hotel/resort and other ancillary uses (Proposed Project). At full build-out, the proposed hotel/resort facility would total approximately 47,000 square-feet (sf) of retail space, 54,000 sf of dining, a 2,500 seat showroom, and a 1,000-room hotel. The hotel tower would not exceed 275 feet above ground level. Access to the project site would be provided via one driveway along Sample Road, one driveway along SR-7/US-441, and one driveway along NW 54th Avenue. The following alternatives are considered in the DEIS:

• Alternative A—Proposed Project;

○ Sub-Alternative A-1—No Coconut Creek Approvals or Agreements;

• Alternative B—Reduced Intensity Alternative;

• Alternative C—No Action by Federal Government;

○ Sub-Alternative C-1—No Coconut Creek Approvals or Agreements.

Environmental issues addressed in the DEIS include geology and soils, water resources, air quality, biological resources, cultural and paleontological resources, socioeconomic conditions (including environmental justice), transportation and circulation, land use, public services, noise, hazardous materials, aesthetics, cumulative effects, and indirect and growth inducing effects.

Directions for Submitting Comments: Please include your name, return address, and the caption: “DEIS Comments, Seminole Tribe of Florida Fee-to-Trust Project,” on the first page of your written comments.

Locations where the DEIS is Available for Review: The DEIS is available for review at the Broward County Northwest Regional Library located at 3151 University Drive, Coral Springs, Florida, 33065 and the City of Coconut Creek City Hall located at 4800 West Copans Road, Coconut Creek, Florida, 33063. The DEIS is also available online at: http://www.seminoleeis.com.

To obtain a compact disk copy of the DEIS, please provide your name and address in writing or by voicemail to Chester McGhee, Environmental Protection Specialist, Bureau of Indian Affairs, Eastern Regional Office. Contact information is listed below in the FOR FURTHER INFORMATION CONTACT section of this notice. Individual paper copies of the DEIS will be provided upon payment of applicable printing expenses by the requestor for the number of copies requested.

Public Comment Availability: Comments, including names and addresses of respondents, will be available for public review at the BIA mailing address shown in the ADDRESSES section of this notice, during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Sec. 46.305 of the Department of Interior Regulations (43 CFR part 46), implementing the procedural requirements of the NEPA of 1969, as amended (42 U.S.C. 4371, et seq.), and is in the exercise of authority delegated to the Assistant Secretary—Indian Affairs by 209 DM 8.

Dated: August 9, 2012.
Donald E. Laverdure,
Acting Assistant Secretary—Indian Affairs.

[FR Doc. 2012-21507 Filed 8-30-12; 8:45 am]

BILLING CODE 4310-W7-P